DEPARTMENT OF HEALTH AND HUMAN SERVICES

Office of the Secretary

Office of the Assistant Secretary for Health; Statement of Organization, Functions, and Delegations of Authority

Part A, Office of the Secretary, Statement of Organizations, Functions and Delegations of Authority for the Department of Health and Human Services (HHS) is being amended at Chapter AA, “Immediate Office of the Secretary,” which was last amended at 75 FR 20364-65, dated April 19, 2010, and at Chapter AC, “Office of Public Health and Science (OPHS),” which was last amended at 72 FR 58095-96, dated October 12, 2007. This amendment will accomplish two tasks: (1) In Chapter AC, revise the title of the office headed by the Assistant Secretary for Health (ASH) from the “Office of Public Health and Science” to the “Office of the Assistant Secretary for Health,” and; (2) add information about a new office reporting to the Assistant Secretary for Health (ASH), the “Office of Adolescent Health,” established in section 1708 of the Public Health Service (PHS) Act (42 U.S.C. 300u-7), and most recently addressed in the December 8, 2009, Conference Report (House Report 111-366) accompanying the Consolidated Appropriations Act, 2010 (Pub. L. 111-117). The changes are as follows:

A. Under Part A, Chapter AA, Section AA.10 Organization, replace the “Office of Public Health and Science (AC)” with the “Office of the Assistant Secretary for Health (AC).”

B. Under Part A generally and Part A, Chapter AC, replace all references to the “Office of Public Health and Science” with the “Office of the Assistant Secretary for Health” and all references to “OPHS” with “OASH.”

C. Under Part A, Chapter AC, Section AC.10 Organization, insert “M. Office of Adolescent Health (ACR)” immediately after “L. Office of Commissioned Corps Force Management (ACQ).”

D. Under Part A, Chapter AC, Section AC.20 Functions, insert the following text immediately after item, “L. Office of Commissioned Corps Force Management (ACQ)”:

M. Office of Adolescent Health (ACR)

Section ACR.00 Mission. The Director of the Office of Adolescent Health (OAH) is the principal advisor to the Assistant Secretary for Health (ASH) on health-related policy and program issues related to adolescents. These issues cut across Health and Human Services (HHS) components which provide research, services, prevention, promotion, treatment, training, education, and information dissemination related to adolescent health. OAH is responsible for implementing activities authorized by section 1708 of the Public Health Service (PHS) Act.

Section ACR.10 Organization. The Office of Adolescent Health is headed by a Director who reports to the Assistant Secretary for Health and is includes the following components:

A. Immediate Office of the Director (ACR)

B. Division of Program Development and Operations (ACR1)

C. Division of Policy, Planning, and Communications (ACR2)

Section ACR.20 Functions

1. Immediate Office of the Director (ACR). The Immediate Office of the Director (IOD) plans and directs financial management and policy development, including budget formulation and execution. The IOD also oversees legislative activities related to adolescent health, acts as a liaison on personnel management to the Office of the Assistant Secretary for Health (OASH) and the Program Support Center, and coordinates correspondence control and executive secretariat functions for OAH. The IOD also manages the day-to-day operations of OAH, plans, coordinates, monitors, and evaluates OAH grants and contracts, and ensures the appropriate exercise of delegated authorities and responsibilities.

2. Division of Program Development and Operations (ACR1). The Division of Program Development and Operations (DPDO) advises the OAH Director on the development of new programs and policies, oversees the implementation and administration of competitive grants and cooperative agreements, monitors grantee activities, evaluates the focus and impact of ongoing programs, prepares analytical reports on program trends, provides training and technical assistance for grant programs, and assesses performance of grantee operations. The Division manages the development of funding announcements and contract scopes of work and the review and award of program grants, cooperative agreements, and contracts. The Division also provides for training of health professionals who work with adolescents, particularly nurse practitioners, physician assistants, and social workers.

3. Division of Policy, Planning, and Communications (ACR2). The Division of Policy, Planning, and Communications (DPPC) is the primary information source on adolescent health programs of OAH. The Division: advises the OAH Director on policy issues; manages information, education and awareness activities and media and press relations; develops and coordinates strategic plans and special initiatives; oversees public health information and performance measurement; and coordinates and promotes OAH programs and policies. DPPC oversees and directs the OAH's communication programs, consistent with the policies of the HHS Assistant Secretary for Public Affairs. This Division also coordinates, develops, researches, and prepares briefing materials on adolescent health for the OAH Director and other HHS offices.

E. Under Part A, Chapter AC, Section AC.10 Organization, replace all references to the “Office of the President's Council on Physical Fitness and Sports (ACE)” with the “Office of the President's Council on Fitness, Sports and Nutrition (ACE)” and all references to the “President's Council on Physical Fitness and Sports” with the “President's Council on Fitness, Sports and Nutrition.”

F. Under Part A, Chapter AC, Section AC.20 Functions, Paragraph A, “The Immediate Office (ACA),” insert the following after “(18)”:

(19) leads and coordinates public health activities that addresses health disparities related to sexual orientation.

Dated: July 29, 2010.
Kathleen Sebelius,
Secretary.

[FR Doc. 2010-21695 Filed 8-30-10; 8:45 am]

BILLING CODE 4150-28-P